DEPARTMENT OF TRANSPORTATION

Federal Aviation Administration

14 CFR Part 39

[Docket No. FAA-2021-0501; Project Identifier MCAI-2021-00168-T; Amendment 39-21908; AD 2022-02-11]

RIN 2120-AA64

Airworthiness Directives; Airbus SAS Airplanes

AGENCY: Federal Aviation Administration (FAA), Department of Transportation (DOT).

ACTION: Final rule.

SUMMARY: The FAA is superseding Airworthiness Directive (AD) 2019-20-10, which applied to certain Airbus SAS Model A318 series airplanes; Model A319-111, -112,-113, -114, -115, -131, -132, and -133 airplanes; Model A320-211, -212, -214, -216, -231, -232, and -233 airplanes; and Model A321-111, -112, -131, -211, -212, -213, -231, and -232 airplanes. AD 2019-20-10 required repetitive rototest inspections of the holes at the door stop fittings for any cracking, and corrective actions if necessary. Since the FAA issued AD 2019-20-10, a clarification of a certain compliance time for the rototest inspection was added. This AD clarifies a certain compliance time and continues to require repetitive rototest inspections of the holes at the door stop fittings for any cracking, and repair if necessary, as specified in a European Union Aviation Safety Agency (EASA) AD, which is incorporated by reference. The FAA is issuing this AD to address the unsafe condition on these products.

DATES: This AD is effective March 15, 2022.

The Director of the Federal Register approved the incorporation by reference of a certain publication listed in this AD as of March 15, 2022.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2021-0501.

Examining the AD Docket

You may examine the AD docket at https://www.regulations.gov by searching for and locating Docket No. FAA-2021-0501; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION:

Background

EASA, which is the Technical Agent for the Member States of the European Union, has issued EASA AD 2018-0289R1, dated February 10, 2021 (EASA AD 2018-0289R1) (also referred to as the MCAI), to correct an unsafe condition for certain Airbus SAS Model A318 series airplanes; Model A319-111, -112, -113, -114, -115, -131, -132, and -133 airplanes; Model A320-211, -212, -214, -215, -216, -231, -232, and -233 airplanes; and Model A321-111, -112, -131, -211, -212, -213, -231, and -232 airplanes. EASA AD 2018-0289R1 supersedes EASA AD 2018-0289 (which corresponds to FAA AD 2019-20-10, Amendment 39-19763 (84 FR 61526, November 13, 2019) (AD 2019-20-10). Model A320-215 airplanes are not certificated by the FAA and are not included on the U.S. type certificate data sheet; this AD therefore does not include those airplanes in the applicability.

The FAA issued a notice of proposed rulemaking (NPRM) to amend 14 CFR part 39 to supersede AD 2019-20-10. AD 2019-20-10 applied to certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. The NPRM published in the Federal Register on June 16, 2021 (86 FR 31989). The NPRM was prompted by a report that cracks were detected on frame (FR)16 and FR20 web holes and passenger door intercostal fitting holes at the door stop fitting locations, and a determination that a certain compliance time needs to be clarified. The NPRM proposed to clarify a certain compliance time and continue to require repetitive rototest inspections of the holes at the door stop fittings for any cracking, and repair if necessary as specified in EASA AD 2018-0289R1.

The FAA is issuing this AD to address cracking of the web holes at the door stop fittings, which could affect the structural integrity of the airplane. See the MCAI for additional background information.

Discussion of Final Airworthiness Directive

Comments

The FAA received comments from two commenters, including Delta Airlines (DAL) and United Airlines (UAL). The following presents the comments received on the NPRM and the FAA's response to each comment.

Request To Clarify the Requirements of the Repair Design Approval Sheet (RDAS)

DAL requested clarification for the following RDAS approval:

• Can the FAA confirm that paragraph (h)(4) of the proposed AD allow operators to account for repairs that are approved using a Repair and Design Approval Form (RDAF) in addition to those repairs that are approved using RDAS? DAL commented that since 2021, the RDAS is no longer Airbus's form of approving repair instructions and it has been replaced by RDAF.

• Can the FAA confirm that if a repair has been approved, “in accordance with a method approved by the Manager, Large Aircraft Section, International Validation Branch, FAA; or EASA; or Airbus SAS's EASA Design Organization Approval (DOA). If approved by the DOA, the approval must include the DOA-authorized signature,” it is acceptable to accomplish the next inspection for each repaired area affected by using the same method of compliance? DAL commented that if this is the case, it requests the FAA either revise paragraph (h)(4) of the proposed AD or include an exception paragraph to the proposed AD to explicitly makes this clear.

The FAA confirms that it accepts Airbus's EASA DOA approval in the form of both an RDAS and an RDAF. The FAA also confirms that for paragraph (3) of EASA AD 2018-0289R1, the next inspections are done at the times specified in the approved method. The FAA has added paragraph (h)(5) of this AD to specify where paragraph (3) of EASA AD 2018-0289R1 refers to accomplishing the next due inspection of each repaired affected area “within the compliance time as specified in, Airbus RDAS, as applicable,” this AD uses the applicable compliance time specified in the repair “approved by the Manager, Large Aircraft Section, International Validation Branch, FAA; or EASA; or Airbus SAS's EASA Design Organization Approval (DOA). If approved by the DOA, the approval must include the DOA-authorized signature.”

Request To Revise the Compliance Time

UAL stated AD 2018-0289R1 was issued to clarify that, to determine the compliance time for the initial inspection of an affected area, the latest accomplishment of the airworthiness limitations item (ALI) task for that affected area must be taken into account. UAL stated that the initial inspection for the FR16 door stop fitting holes cannot be accomplished within 16,800 flight cycles from ALI task 531103-01-1 if FR20 was the only applicable side for the task at “[airworthiness limitations section] ALS Part 2 Rev 3” or earlier revisions. UAL commented that, therefore, the proposed AD may have an impact on an airline's operation and, for FR16 only, result in immediate non‐compliance if ALI task 531103-01-1 was accomplished at “ALS Part 2 Rev 3” or earlier revisions for FR20. UAL stated that condition “A” in “Table 1: Inspection Thresholds” of AD 2018-0289R1, specifies the inspection threshold for FR16 as 30,000 total flight cycles and certain airplanes may be above 30,000 total flight cycles under this condition.

UAL commented that the side of FR16 was added to the ALI task 531103-01-1 description in “ALS Part 2 Rev 4,” and as stated in “ALS Part 2 Rev 4, Section 2 Paragraph 1(1),” the two digit sequence number following structural significant item number (i.e., 531103-01) changes when the inspection area is physically different (i.e., FR16 or FR20). UAL also commented that “ALS Part 2 Rev 4” did not change the ALI task sequence number or describe any retroactive action if FR20 was the only side previously inspected using “ALS Part 2 Rev 3” or earlier revisions. UAL stated that it believes this change was overlooked in “ALS Part 2 Rev 4,” and as a result, operators may not have been aware to reset the initial inspection for the ALI for FR16.

The FAA acknowledges the commenter's concern for the FR16 inspection requirement. The FAA has added paragraph (h)(6) to this AD to include a 30-day grace period as of the effective date of this AD for airplanes affected by condition “A” in “Table 1: Inspection Thresholds” of AD 2018-0289R1. The 30-day grace period prevents grounding of airplanes that are above the 30,000 total flight cycle threshold while still allowing for an acceptable level of safety.

Regarding the change in “ALS part 2 Rev 4,” the FAA notes that the description for task 531103-01 to accomplish the inspection for FR16 and FR20 is specified in “ALS part 2 Rev 4.” The change related to FR16 was also referenced in the record of revision section of “ALS part 2.”

Request To Clarify Alternative Method of Compliance (AMOC) Approvals

DAL requested clarification of AMOC approvals as specified in paragraphs (i)(1)(i) and (ii) of the proposed AD. DAL commented on a scenario where an AMOC was approved for AD 2019-20-10 for an operator's entire fleet, which included a deviation to one of the paragraphs in EASA AD 2018-0289 and a deviation to one of the applicable service bulletins for correcting an error. DAL commented that because the AMOC is applicable to the whole fleet, it is possible that the AMOC approval applies to a manufacturer serial number that is applicable to the compliance time specified in “Table 1: Inspection Thresholds,” Row B, of EASA AD 2018-0289R1. DAL asked if this particular AMOC still applies once the final rule becomes effective or is a new AMOC request required for a deviation to the EASA AD requirements and for the service bulletin correction?

The FAA agrees to provide clarification. The intent of the paragraph (i)(1)(i) and (ii) of this AD is to ensure that existing AMOCs are not inadvertently affected with the new inspection threshold added in EASA AD 2018-0289R1. It is the operator's responsibility to consult with the FAA oversight office and the office responsible for the issuance of an AMOC if AMOC validity is impacted by “Table 1: Inspection Thresholds,” Row B, of EASA AD 2018-0289R1. If an AMOC is issued to correct service bulletin errors and it is not related to the inspection threshold change in “Table 1: Inspection Thresholds,” Row B, of EASA AD 2018-0289R1, then it would be applicable to this AD without further evaluation. The FAA has not changed the AD in this regard.

Requests To Include or Exclude a Reporting Requirement

UAL requested that the proposed AD include a reporting requirement for the inspection. UAL stated that it believes no reporting to the manufacturer is required since it is not a requirement in AD 2019-20-10 or EASA AD 2018-0289R1; however, UAL also noted that Airbus Mandatory Bulletin A320-53-1339, Revision 01, dated April 7, 2021, contains reporting in the “Required for Compliance” section of the service bulletin.

DAL requested that the FAA add a statement to paragraph (h) of the proposed AD exempting operators from any mandatory reporting. DAL commented that Airbus has issued Mandatory Bulletin A320-53-1339, Revision 01, dated April 7, 2021, and that paragraph 3.C. of the service bulletin contains instructions to complete an “Inspection Report Sheet” form and to send the completed form to Airbus. DAL stated that paragraph 3.C.(8) of Airbus Mandatory Bulletin A320-53-1339, Revision 01, dated April 7, 2021, is considered an “RC” paragraph, and therefore, reporting the inspection results is considered mandatory. DAL commented that, typically, reporting is needed from operators to determine root cause of the issue and that the root cause of the safety concern is already addressed in previously issued revisions of the service information.

The FAA agrees to clarify. EASA AD 2018-0289R1 does not include a reporting requirement that is separate from the reporting to address an unsafe condition (inspection findings); however EASA AD 2018-0289R1 allows the use of later-approved revisions of the service information, which includes Airbus Mandatory Service Bulletin A320-53-1339, Revision 01, dated April 7, 2021. Airbus Mandatory Service Bulletin A320-53-1339, Revision 01, dated April 7, 2021, specifies reporting is necessary if the cracked intercostal(s) are replaced according to repair instruction R53113118. The FAA would also like to clarify that requirements to contact manufacturer to obtain method of compliance does not require specific reporting requirements and must be complied with.

The FAA has added paragraph (h)(7) of this AD to clarify that the reporting specified in paragraph 3.C.(8) of the inspection service bulletin referenced in EASA AD 2018-0289R1, is required only if the cracked intercostal(s) have been replaced using repair instruction R53113118.

Conclusion

The FAA reviewed the relevant data, considered the comments received, and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

EASA AD 2018-0289R1 describes procedures for repetitive rototest inspections of the holes at the door stop fittings for any cracking and repair if necessary. This material is reasonably available because the interested parties have access to it through their normal course of business or by the means identified in the ADDRESSES section.

Costs of Compliance

The FAA estimates that this AD affects 1,528 airplanes of U.S. registry. The FAA estimates the following costs to comply with this AD:

Estimated Costs for Required Actions
Action | Labor cost | Parts cost | Cost per product | Cost on U.S. operators
Retained actions from AD 2019-20-10 (1,229 airplanes) | 33 work-hours × $85 per hour = $2,805 | $0 | $2,805 | $3,447,345
Inspections | 33 work-hours × $85 per hour = $2,805 | 0 | 2,805 | 4,286,040

The FAA estimates the following costs to do any necessary on-condition actions that would be required based on the results of any required actions. The FAA has no way of determining the number of aircraft that might need this on-condition action:

Estimated Costs of On-Condition Actions
Labor cost | Parts cost | Cost per product
51 work-hours × $85 per hour = $4,335 (repair) | $350 | $4,685
1 work-hours × $85 per hour = $85 (reporting) | 0 | 85

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) AD 2019-20-10, Amendment 39-19763 (84 FR 61526, November 13, 2019); and

b. Adding the following new AD:

2022-02-11 Airbus SAS: Amendment 39-21908; Docket No. FAA-2021-0501; Project Identifier MCAI-2021-00168-T.

(a) Effective Date

This airworthiness directive (AD) is effective March 15, 2022.

(b) Affected ADs

This AD replaces AD 2019-20-10, Amendment 39-19763 (84 FR 61526, November 13, 2019) (AD 2019-20-10).

(c) Applicability

This AD applies to Airbus SAS airplanes specified in paragraphs (c)(1) through (4) of this AD, certificated in any category, as identified in European Union Aviation Safety Agency (EASA) AD 2018-0289R1, dated February 10, 2021 (EASA AD 2018-0289R1).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Reason

This AD was prompted by a report that cracks were detected on frame (FR)16 and FR20 web holes and passenger door intercostal fitting holes at the door stop fitting locations, and a determination that a certain compliance time needs to be clarified. The FAA is issuing this AD to address cracking of the web holes at the door stop fittings, which could affect the structural integrity of the airplane.

(f) Compliance

Comply with this AD within the compliance times specified, unless already done.

(g) Requirements

Except as specified in paragraph (h) of this AD: Comply with all required actions and compliance times specified in, and in accordance with, EASA AD 2018-0289R1.

(h) Exceptions to EASA AD 2018-0289R1

(1) Where EASA AD 2018-0289R1 refers to its effective date, this AD requires using the effective date of this AD.

(2) The “Remarks” section of EASA AD 2018-0289R1 does not apply to this AD.

(3) Where Table 1 of EASA AD 2018-0289R1 refers to a compliance time “after 31 May 2017,” this AD requires using a compliance time after May 31, 2018 (the effective date of task 531103-01-1 in “ALS Part 2 rev. 6”).

(4) Where paragraphs (3) and (6) of EASA AD 2018-0289R1 refers to actions that have been done “in accordance with Airbus Repair Design Approval Sheet (RDAS),” this AD includes repair done “in accordance with a method approved by the Manager, Large Aircraft Section, International Validation Branch, FAA; or EASA; or Airbus SAS's EASA Design Organization Approval (DOA). If approved by the DOA, the approval must include the DOA-authorized signature.”

(5) Where paragraph (3) of EASA AD 2018-0289R1 refers to accomplishing the next due inspection of each repaired affected area “within the compliance time as specified in, Airbus RDAS, as applicable,” for this AD use the applicable compliance time specified in the repair “approved by the Manager, Large Aircraft Section, International Validation Branch, FAA; or EASA; or Airbus SAS's EASA Design Organization Approval (DOA). If approved by the DOA, the approval must include the DOA-authorized signature.”

(6) Where condition “A” in Table 1 of EASA AD 2018-0289R1 specifies a compliance time of “Before exceeding 30[,]000 FC since aeroplane first flight,” this AD requires, for the inspection at frame 16 only, a compliance time of “Before exceeding 30,000 flight cycles since airplane's first flight, or within 30 days after the effective date of this AD, whichever occurs later.”

(7) If the actions in paragraph 3.C.(8) of the inspection service bulletin referenced in EASA AD 2018-0289R1 specifies to report all findings, this AD requires reporting if only the cracked intercostal(s) that have been replaced using repair instruction R53113118. Report results at the applicable time specified in paragraph (h)(7)(i) or (ii) of this AD. If operators have reported findings as part of obtaining any corrective actions approved by Airbus SAS's European Aviation Safety Agency (EASA) Design Organization Approval (DOA), operators are not required to report those findings as specified in this paragraph.

(i) If the inspection was done on or after the effective date of this AD: Submit the report within 30 days after the inspection.

(ii) If the inspection was done before the effective date of this AD: Submit the report within 30 days after the effective date of this AD.

(i) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov.

(i) Before using any approved AMOC, notify your appropriate principal inspector, or lacking a principal inspector, the manager of the responsible Flight Standards Office.

(ii) AMOCs approved previously for AD 2019-20-10 are approved as AMOCs for the corresponding provisions of EASA AD 2018-0289R1 that are required by paragraph (g) of this AD, except for those airplanes having a compliance time specified in “Table 1: Inspection Thresholds,” Row B, of EASA AD 2018-0289R1.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2018-0289R1 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Sanjay Ralhan, Aerospace Engineer, Large Aircraft Section, International Validation Branch, FAA, 2200 South 216th St., Des Moines, WA 98198; telephone and fax 206-231-3223; email Sanjay.Ralhan@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2018-0289R1, dated February 10, 2021.

(ii) [Reserved]

(3) For EASA AD 2018-0289R1, contact EASA, Konrad-Adenauer-Ufer 3, 50668 Cologne, Germany; telephone +49 221 8999 000; email ADs@easa.europa.eu; Internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on January 10, 2022.
Lance T. Gant,
Director, Compliance & Airworthiness Division, Aircraft Certification Service.

[FR Doc. 2022-02554 Filed 2-7-22; 8:45 am]

BILLING CODE 4910-13-P